OFFICE OF THE UNITED STATES TRADE REPRESENTATIVE

Update on Potential Withdrawal of Tariff Concessions and Increase in Duties in Response to European Union (EU) Enlargement

AGENCY: Office of the United States Trade Representative.

ACTION: Notice for the public on potential withdrawal of tariff concessions and increase in duties.

Background: In Federal Register Notice 04-20543, dated September 10, 2004, and Federal Register Notice 04-21762, dated September 28, 2004, the Office of the U.S. Trade Representative sought comments concerning a list of goods for which tariff concessions maybe withdrawn and duties maybe increased in the event the United States cannot reach agreement with the European Union (EU) for adequate compensation owed under World Trade Organization (WTO) rules as a result of EU enlargement. The Trade Policy Subcommittee continue store view the public comments that it has received as a result of these FederalRegister notices. Pursuant to several extensions in the WTO, the U.S. Government would have had to notify the WTO by July 2, 2005 of its rights to withdrawal substantially equivalent concessions under GATT 1994 Article XXVIII:3 inrelation to the issue of EU enlargement. The European Communities has subsequently agreed to the extension of the rights of the United States' and other interested WTO Members' to withdraw substantially equivalent concessions for an additional six months, until February 1, 2006. The United States Government continues to seek an immediate negotiated resolution of the enlargement issue, and retains the right, in this period, to withdraw substantially equivalent concessions. The United States would notify the World Trade Organization at least 30 days before it with drew concessions on substantially equivalent concessions. It would also provide notification to the public of the list of goods affected at such time. The public is encouraged to call Laurie Molnar, Director for European and Mediterranean Trade Issues, Office of Europe and the Mediterranean, Office of the U.S. Trade Representative at (202) 395-3320, for periodic updates on the status of these issues.

Carmen Suro-Bredie,
Chair, Trade Policy Staff Committee.

[FR Doc. 05-13843 Filed 7-13-05; 8:45 am]

BILLING CODE 3190-W5-P